NUCLEAR REGULATORY COMMISSION

[Docket No. 50-390]

Tennessee Valley Authority; Notice of Withdrawal of Application for Amendment to Facility Operating License

The U.S. Nuclear Regulatory Commission (the Commission) has granted the request of Tennessee Valley Authority (the licensee) to withdraw its April 7, 2004, application for proposed amendment to Facility Operating License No. NPF-90 for the Watts Bar Nuclear Plant (WBN), Unit 1, located in Rhea County, Tennessee.

The proposed amendment would have revised the WBN Unit 1, Technical Specification (TS) 3.7.9, “Ultimate Heat Sink (UHS)” Surveillance Requirement and TS 5.7 “Procedures, Programs and Manuals.”

The Commission had previously issued a Notice of Consideration of Issuance of Amendment published in the Federal Register on April 27, 2004 (69 FR 22884). However, by electronic mail dated August 9, 2004, the licensee withdrew the proposed change.

For further details with respect to this action, see the application for amendment dated April 7, 2004, and the licensee's electronic mail dated August 9, 2004, which withdrew the application for license amendment. Documents may be examined, and/or copied for a fee, at the NRC's Public Document Room (PDR), located at One White Flint North, Public File Area O-1F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 27th day of August 2004.
For the Nuclear Regulatory Commission.
Manny M. Comar,
Project Manager, Section 2, Project Directorate II, Division of Licensing Project Management, Office of Nuclear Reactor Regulation.

[FR Doc. 04-20194 Filed 9-3-04; 8:45 am]

BILLING CODE 7590-01-P